SECURITIES AND EXCHANGE COMMISSION

[File No. 500-1]

BioMETRX, Inc., Biopure Corp. (n/k/a PBBPC, Inc.), Distributed Energy Systems Corp., Fortified Holdings Corp., Knobias, Inc., and One IP Voice, Inc. (n/k/a Indian Hill Holdings Corporation); Order of Suspension of Trading

July 14, 2011.

It appears to the Securities and Exchange Commission that there is a lack of current and accurate information concerning the securities of BioMETRX, Inc. because it has not filed any periodic reports since the period ended September 30, 2008.

It appears to the Securities and Exchange Commission that there is a lack of current and accurate information concerning the securities of Biopure Corp. (n/k/a PBBPC, Inc.) because it has not filed any periodic reports since the period ended April 30, 2009.

It appears to the Securities and Exchange Commission that there is a lack of current and accurate information concerning the securities of Distributed Energy Systems Corp. because it has not filed any periodic reports since the period ended March 31, 2008.

It appears to the Securities and Exchange Commission that there is a lack of current and accurate information concerning the securities of Fortified Holdings Corp. because it has not filed any periodic reports since the period ended September 30, 2008.

It appears to the Securities and Exchange Commission that there is a lack of current and accurate information concerning the securities of Knobias, Inc. because it has not filed any periodic reports since the period ended September 30, 2008.

It appears to the Securities and Exchange Commission that there is a lack of current and accurate information concerning the securities of One IP Voice, Inc. (n/k/a Indian Hill Holdings Corporation) because it has not filed any periodic reports since the period ended September 30, 2006.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on July 14, 2011, through 11:59 p.m. EDT on July 27, 2011.

By the Commission.
Cathy H. Ahn,
Deputy Secretary.

[FR Doc. 2011-18085 Filed 7-14-11; 11:15 am]

BILLING CODE 8011-01-P